DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: The Occupational Safety and Health Administration announces that OMB extended approval for information collection requirements found in OSHA's standards and regulations outlined in this notice. OSHA sought approval of these requirements under the Paperwork Reduction Act of 1995 (PRA), and, as required by that Act, is announcing the approval numbers and expiration dates for these requirements and regulations.

DATES: This notice is applicable October 25, 2019.

FOR FURTHER INFORMATION CONTACT: Seleda Perryman or Theda Kenney, Directorate of Standards and Guidance, OSHA, U.S. Department of Labor, telephone (202) 693-2222.

SUPPLEMENTARY INFORMATION: In a series of Federal Register notices, the various information collection (paperwork) requirements in its safety and health standards pertaining to general industry, construction, and shipyard employment, and regulations pertaining to On-Site Consultation Agreements, Variances, OSHA Strategic Partnership Program for Workers' Safety and Health, and National Safety Stand-Down to Prevent Falls in Construction (i.e., 29 CFR parts 1904, 1905, 1908, 1910, 1915, 1917, 1918, and 1926). In these Federal Register announcements, the agency provided 60-day comment periods for the public to respond to OSHA's burden hour and cost estimates.

In accordance with the PRA (44 U.S.C. 3501-3520), OMB approved these information collection requirements. The table provides the following information for each of these requirements approved by OMB: the title of the Federal Register notice; the Federal Register reference (date, volume, and leading page); OMB's Control Number; and the new expiration date.

In accordance with 5 CFR 1320.5(b), an agency cannot conduct, sponsor, or require a response to a collection of information unless the collection displays a valid OMB control number and the agency informs respondents that they need not respond to the collection of information.

Title of the information collection request | Date of Federal Register Publication, Federal Register Reference, and OSHA Docket No. | OMB Control No. | Expiration date
13 Carcinogens Standard (29 CFR 1910.1003, 1915.1003, and 1926.1103) | June 19, 2018, 83 FR 28451, Docket No. OSHA-2011-0860 | 1218-0085 | 03/31/2022
Blasting Operations and the Use of Explosives (29 CFR part 1926, subpart U) | April 19, 2018, 83 FR 17447, Docket No. OSHA-2011-0747 | 1218-0217 | 02/28/2022
Bloodborne Pathogens Standard (29 CFR 1910.1030) | April 18, 2018, 83 FR 17194, Docket No. OSHA-2010-0047 | 1218-0180 | 08/31/2021
Commercial Diving Operations Standard (29 CFR part 1910, subpart T) | March 21, 2019, 84 FR 10553, Docket No. OSHA-2011-0008 | 1218-0069 | 07/31/2022
Electrical Standards for Construction (29 CFR part 1926, subpart K) and General Industry (29 CFR part 1910, subpart S) | January 17, 2018, 83 FR 2468, Docket No. OSHA-2011-0187 | 1218-0130 | 08/31/2021
General Working Conditions in Shipyard Employment Standard (29 CFR part 1915, subpart F) | October 2, 2017, 82 FR 45900, Docket No. OSHA-2014-0021 | 1218-0259 | 02/28/2022
Marine Terminal Operations (29 CFR part 1917) and Longshoring (29 CFR part 1918) Standards | February 5, 2019, 84 FR 1794, Docket No. OSHA-2012-0016 | 1218-0196 | 07/31/2022
National Safety Stand-Down to Prevent Falls in Construction | January 12, 2018, 83 FR 1630, Docket No. OSHA-2017-0012 | 1218-0271 | 06/30/2022
Occupational Exposure to Hazardous Chemicals in Laboratories (29 CFR 1910.1450) | October 26, 2018, 83 FR 54145, Docket No. OSHA-2011-0059 | 1218-0131 | 06/30/2022
Occupational Safety and Health Act Variance Regulations (29 CFR 1905.10, 1905.11, and 1905.12) | March 30, 2018, 83 FR 13790, Docket No. OSHA-2009-0024 | 1218-0265 | 02/28/2022
Occupational Safety and Health Onsite Consultation Agreements (29 CFR part 1908) | March 30, 2018, 83 FR 13792, Docket No. OSHA-2011-0125 | 1218-0110 | 01/31/2022
Occupational Safety and Health State Plans | March 21, 2019, 84 FR 10551, Docket No. OSHA-2011-0197 | 1218-0247 | 07/31/2022
OSHA Strategic Partnership Program for Workers Safety and Health | March 5, 2019, 84 FR 1791, Docket No. OSHA-2011-0861 | 1218-0244 | 07/31/2022
Permit-Required Confined Spaces (29 CFR 1910.146) | May 22, 2018, 83 FR 23724, Docket No. OSHA-2011-0858 | 1218-0203 | 10/31/2021
Personal Protective Equipment for Shipyard Employment (29 CFR part 1915, subpart I) | February 5, 2019, 84 FR 1795, Docket No. OSHA-2012-0038 | 1218-0215 | 08/31/2022
Recordkeeping and Reporting Occupational Injuries and Illnesses (29 CFR part 1904) | July 29, 2019, 84 FR 36468, Docket No. OSHA-2013-0023 | 1218-0176 | 03/31/2022
Reports of Injuries to Employees Operating Mechanical Power Presses (29 CFR 1910.217(g)) | April 19, 2018, 83 FR 17449, Docket No. OSHA-2012-0017 | 1218-0070 | 02/28/2022
Shipyard Employment Standards (29 CFR part 1915) | April 11, 2018, 83 FR 15639, Docket No. OSHA-2011-0190 | 1218-0220 | 08/31/2021
Slings Standard (29 CFR 1910.184) | January 17, 2018, 83 FR 2466, Docket No. OSHA-2011-0063 | 1218-0223 | 08/31/2021
Telecommunications Standard (29 CFR 1910.268) | January 12, 2018, 83 FR 1632, Docket No. OSHA-2010-0057 | 1218-0225 | 08/31/2021
Temporary Labor Camps (29 CFR 1910.142) | September 18, 2018, 83 FR 47190, Docket No. OSHA-2012-0012 | 1218-0096 | 08/31/2022
Vehicle-Mounted Elevating and Rotating Work Platforms Standard (Aerial Lifts) (29 CFR 1910.67) | February 20, 2018, 83 FR 7235, Docket No. OSHA-2011-0185 | 1218-0230 | 08/31/2021
Vertical Tandem Lifts for Marine Terminals (29 CFR part 1917) | January 22, 2018, 83 FR 3031, Docket No. OSHA-2011-0066 | 1218-0260 | 08/31/2021

Authority and Signature

Loren Sweatt, Principal Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on October 18, 2019.
Loren Sweatt,
Principal Deputy Assistant Secretary of Labor for Occupational Safety and Health.

[FR Doc. 2019-23297 Filed 10-24-19; 8:45 am]

BILLING CODE 4510-26-P